COMMODITY FUTURES TRADING COMMISSION

Acceptance of Public Submissions on the Wall Street Reform and Consumer Protection Act and the Rulemakings That Will Be Proposed by the Commission

AGENCY: Commodity Futures Trading Commission.

ACTION: Notice; Acceptance of public submissions.

SUMMARY: The Dodd-Frank Wall Street Reform and Consumer Protection Act (“Dodd-Frank Act”) was enacted on July 21, 2010. The Dodd-Frank Act, among other things, will bring comprehensive regulation to the over-the-counter (“OTC”) derivatives marketplace for the first time. The Commodity Futures Trading Commission (“CFTC” or “Commission”) will be implementing the Dodd-Frank Act by adopting rules to regulate the OTC derivatives market. The Commission welcomes the views of interested parties on the Dodd-Frank Act and the rulemakings that it will implement thereunder. The views of interested parties may be considered in the pre-proposal process but will not be treated as official comments on specific proposed rulemakings. As discussed in this notice, the Commission has made electronic mailboxes available for any submissions interested parties wish to make. Interested parties are advised that all submissions will be published on the Commission's Web site without review and without removal of the submitter's identifying information.

DATES: The Commission will accept submissions on each rulemaking topic until it publishes a proposed rulemaking for that topic in the Federal Register. Thereafter, the Commission will accept official comments on the proposed rulemaking until the close of the rulemaking's official comment period.

ADDRESSES: Submissions should be made to David Stawick, Secretary, Commodity Futures Trading Commission, by electronic mail to the electronic mailboxes specified herein. All submissions should be in English, or if not, accompanied by an English translation. Reference should be made in the subject line of the electronic mail to the rulemaking category on which views are being submitted, which is provided with their associated mailboxes.

FOR FURTHER INFORMATION CONTACT: Beverly E. Loew, Office of the General Counsel, Commodity Futures Trading Commission, Three Lafayette Centre, 1155 21st Street, NW., Washington, DC 20581. Telephone: (202) 418-5648.

SUPPLEMENTARY INFORMATION:

On July 21, 2010, The Dodd-Frank Wall Street Reform and Consumer Protection Act (“Dodd-Frank Act”), Public Law 111-203, was enacted. The Dodd-Frank Act will bring comprehensive regulation to the OTC market. The Dodd-Frank Act authorizes the Commission to, among other things:

• Regulate OTC derivatives dealers by subjecting them to capital and margin requirements to lower risk in the financial system, by requiring them to meet robust business conduct standards to lower risk and promote market integrity, and by requiring them to meet recordkeeping and reporting requirements so that regulators can police the markets.

• Increase transparency in the derivatives marketplace by requiring standardized derivatives to be traded on regulated exchanges or swap execution facilities, instead of trading out of sight of the public.

• Lower risk by moving standardized derivatives into central clearinghouses.

The Commission has identified 30 areas in the Dodd-Frank Act in which rulemaking will be necessary and has received inquiries from interested persons wishing to submit their views on those areas. The Commission welcomes the views of all interested parties.

The Commission has established electronic mailboxes for 29 of the 30 rulemaking areas to facilitate the acceptance of submissions from interested parties. In addition, the Commission has established a mailbox for general comments on the Commission's rulemakings under the Dodd-Frank Act that either do not fit into one of the issue areas or that cover more than one area. The Commission is no longer accepting public submissions in the Retail Off-Exchange Foreign Currency area because the official public comment period for that proposed rulemaking closed on March 22, 2010. Prior to the publication of proposed rulemakings and commencement of official comment periods on regulations proposed under the Dodd-Frank Act, persons interested in making their views known on a particular rulemaking area may submit them by electronic mail to the mailbox associated with the area. The 30 rulemaking areas identified by the Commission are available on the Commission's Web site at http://www.cftc.gov/LawRegulation/OTCDerivatives/otc_rules.html. The electronic mail addresses for each rulemaking area are available by clicking on the hyperlink available for each area and additionally are provided herein:

• Comprehensive Regulation of Swap Dealers & Major Swap Participants

Registration | OTCRegistration@CFTC.gov
Definitions, such as Swap Dealer, Major Swap Participant, Security-Based Swap Dealer, and Major Security-Based Swap Participant, to be Written Jointly with SEC | OTCDefinitions@CFTC.gov
Business Conduct Standards with Counterparties | BusConductStandardsCP@CFTC.gov
Internal Business Conduct Standards | BusConductStandardsInternal@CFTC.gov
Capital & Margin for Non-banks | CapMargin@CFTC.gov
Segregation & Bankruptcy for both Cleared and Uncleared Swaps | SegBankruptcy@CFTC.gov

• Clearing

DCO Core Principle Rulemaking, Interpretation & Guidance | DCORules@CFTC.gov
Process for Review of Swaps for Mandatory Clearing | SwapReview@CFTC.gov
Governance & Possible Limits on Ownership & Control | DCOGovernance@CFTC.gov
Systemically Important DCO Rules Authorized Under Title VIII | SystemicDCO@CFTC.gov
End-user Exception | EndUser@CFTC.gov

• Trading

DCM Core Principle Rulemaking, Interpretation & Guidance | DCMRules@CFTC.gov
SEF Registration Requirements and Core Principle Rulemaking, Interpretation & Guidance | SEFRules@CFTC.gov
New Registration Requirements for Foreign Boards of Trade | FBOTRegistration@CFTC.gov
Rule Certification & Approval Procedures (applicable to DCMs, DCOs, SEFs) | RuleApproval@CFTC.gov

• Data

Swap Data Repositories Registration Standards and Core Principle Rulemaking, Interpretation & Guidance | SwapDataRepositories@CFTC.gov
Data Recordkeeping & Reporting Requirements | Recordkeeping@CFTC.gov
Real Time Reporting | RealTimeReporting@CFTC.gov

• Particular Products

Agricultural Swaps | AgSwaps@CFTC.gov
Foreign Currency (Retail Off-Exchange) | Comment period closed on March 22, 2010.
Joint Rules with SEC, such as “Swap” and “Security-Based Swap” | JointSEC@CFTC.gov
Portfolio Margining Procedures | PortfolioMargining@CFTC.gov

• Enforcement

Anti-Manipulation | OTCManipulation@CFTC.gov
Disruptive Trading Practices | DisruptiveTrading@CFTC.gov
Whistleblowers | Whistleblowers@CFTC.gov

• Position Limits

Position Limits, including Large Trader Reporting, Bona Fide Hedging Definition & Aggregate Limits | PosLimits@CFTC.gov

• Other Titles and General Comments

Investment Adviser Reporting | InvestAdviser@CFTC.gov
Volcker Rule | VolckerRule@CFTC.gov
Reliance on Credit Ratings | CreditRatings@CFTC.gov
Fair Credit Reporting Act and Disclosure of Nonpublic Personal Information | FCRA@CFTC.gov
Submissions on the Dodd-Frank Act Rulemakings Not Falling into | dfarulemakings@cftc.gov

Interested parties are hereby advised that the views they submit in the pre-proposal process to the Commission will not be treated as official comments on any of the proposed rulemakings. Interested parties who wish to submit official comments on a rulemaking should submit them during the comment period commencing with the notice of proposed rulemaking published by the Commission in the Federal Register.

Interested parties also should be advised that all submissions provided in any electronic form or on paper will be published on the Commission's Web site. The submissions will not be subject to pre-publication review, and personally identifying information will not be removed. Interested parties therefore should not submit any information to the Commission that they do not wish to be made public. All submissions are subject to the CFTC Privacy Policy, which is available at http://www.cftc.gov/WebPolicy/index.htm#Privacy.

Issued in Washington, DC, on August 20, 2010, by the Commission.
David Stawick,
Secretary of the Commission.

[FR Doc. 2010-21269 Filed 8-25-10; 8:45 am]

BILLING CODE 6351-01-P